DEPARTMENT OF AGRICULTURE

Rural Utilities Service

Owen Electric Cooperative; Notice of Finding of No Significant Impact

AGENCY: Rural Utilities Service, USDA.

ACTION: Notice of finding of no significant impact.

SUMMARY: Notice is hereby given that the Rural Utilities Service (RUS) has made a finding of no significant impact with respect to a request from Owen Electric Cooperative for financing assistance from RUS to finance the construction of a new headquarters facility in Owen County, Kentucky.

FOR FURTHER INFORMATION CONTACT: Bob Quigel, Environmental Protection Specialist, Engineering and Environmental Staff, RUS, Stop 1571, 1400 Independence Avenue, SW, Washington, DC 20250-1571, telephone (202) 720-0468, e-mail at bquigel@rus.usda.gov.

SUPPLEMENTARY INFORMATION: Owen Electric Cooperative proposes to construct a new headquarters facility in Owen County, Kentucky. The site of the new facility is located south of the unincorporated community of Bromley less than ½ mile south intersection of U.S. Highway 127 and State Route 35 on the western side to U.S. Highway 127. The new headquarters facility will be located on a 46-acre parcel of property. Approximately 13 acres of the property will be used for the facility. The facility will consist of a 31,900 square-foot, one story office building, a 27, 900 square-foot service building, 95 employee and 35 visitor parking spaces, a pole storage yard, a metal utility building, a lattice radio tower, and a 175-kilowatt standby electric generator with a 500-gallon diesel fuel storage tank. Access to the facility will be via a paved driveway from U.S. Highway 127.

Copies of the Finding of No Significant Impact are available from RUS at the address provided herein or from Mr. William T. Prather of Owen Electric Cooperative, PO Box 400, Owenton, Kentucky 40359, telephone (502) 484-3471.

Dated: October 29, 2002.
Blaine D. Stockton,
Assistant Administrator, Electric Program, Rural Utilities Service.

[FR Doc. 02-28048 Filed 11-4-02; 8:45 am]

BILLING CODE 3410-15-P